SMALL BUSINESS ADMINISTRATION

[License No. 05/05-0298]

LaSalle Capital Group II-A, L.P.; Notice Seeking Exemption Under Section 312 of the Small Business Investment Act, Conflicts of Interest

Notice is hereby given that LaSalle Capital Group II-A, L.P., 70 West Madison Street, Suite 5710, Chicago, Illinois, 60602, a Federal Licensee under the Small Business Investment Act of 1958, as amended (the “Act”), in connection with the financing of a small concern, has sought an exemption under Section 312 of the Act and Section 107.730, Financings which Constitute Conflicts of Interest of the Small Business Administration (“SBA”) Rules and Regulations (13 CFR 107.730). LaSalle Capital Group II-A, L.P. is providing debt and equity financing to Westminster Foods II, LLC, 70 West Madison Street, Suite 5710, Chicago, Illinois, 60602. Some of the proceeds will be used to purchase Westminster Foods, LLC.

The financing is brought within the purview of § 107.730(a)(5) of the Regulations because a majority of the membership units of Westminster Foods, LLC are owned by LaSalle Capital Group, L.P., an Associate of LaSalle Capital Group II-A. L.P., therefore this transaction is considered to be financing a Small Business for the purpose of purchasing property from an Associate and it requires SBA prior written exemption.

Notice is hereby given that any interested person may submit written comments on the transaction within fifteen days of the date of this publication to the Associate Administrator for the Office of Investment and Innovation, U.S. Small Business Administration, 409 Third Street, SW., Washington, DC 20416.

Dated: June 24, 2015.
John R Williams,
Acting Deputy Associate Administrator for Office of Investment and Innovation.

[FR Doc. 2015-16144 Filed 6-30-15; 8:45 am]

BILLING CODE 8025-01-P